DEPARTMENT OF HEALTH AND HUMAN SERVICES

[Document Identifier: OS-0990-0290; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-6974.

Proposed Project: Evaluating the Title XX Adolescent Family Life (AFL) Program: Care Demonstration Projects—OMB No. 0990-0290—Revision—Office of Adolescent Pregnancy Programs (OAPP).

Abstract: The Office of Adolescent Pregnancy Programs (OAPP) is requesting approval from the Office of Management and Budget (OMB) to revise a currently approved collection of information conducting a cross-site evaluation of the Adolescent Family Life (AFL) care demonstration program utilizing revised core evaluation instruments. “Evaluating the Title XX Adolescent Family Life (AFL) Program: Care Demonstration Projects” is authorized by Title XX of the Public Health Service Act. The program is requesting 3 year approval. Respondents will be pre-adolescents and adolescents aged 9-19 participating in the care demonstration projects and will complete pre-intervention surveys and post-intervention surveys. The affected public will be individuals in the demonstration projects and comparison participants.

Estimated Annualized Burden Table
Form name | Number of respondents | Number of responses per respondent | Average burden per response (in hours) | Total burden hours
Baseline Care survey for pregnant adolescents | 3,333 | 1 | 23/60 | 1,278
Baseline Care survey for parenting adolescents | 1,000 | 1 | 23/60 | 383
Follow-up survey (at birth) | 3,333 | 1 | 23/60 | 1,278
Follow-up Care survey (6 months after birth) | 4,333 |  | 23/60 | 1,661
Follow-up Care survey (12 months after birth) | 4,333 | 1 | 23/60 | 1,661
Total |  |  |  | 6,261

Terry Nicolosi,
Office of the Secretary, Paperwork Reduction Act Reports Clearance Officer.

[FR Doc. E8-19536 Filed 8-21-08; 8:45 am]

BILLING CODE 4150-30-P